DEPARTMENT OF DEFENSE

Department of the Air Force

Intent To Grant a Partially-Exclusive Patent License

Pursuant to the provisions of part 404 of title 37, Code of Federal Regulations, which implements Public Law 96-517, as amended, the Department of the Air Force announces its intention to grant Input/Output Inc., a U.S. corporation, having a place of business at 12300 Parc Crest Drive, Stafford, Texas, USA, a partially-exclusive license, limited to “* * * all applications within the oil and gas industry, worldwide * * *”, in any right, title and interest the Air Force has in: U.S. Patent 5,119,341, filed on July 17, 1991, and patented on June 2, 1992, entitled “Method for Extending GPS to Underwater Applications,” by James W. Youngberg, inventor, a then employee of and assignor to the Department of the Air Force of his entire right, title and interest in said invention.

Any objection to the grant of the license must be submitted in writing and received within fifteen (15) days from the date of publication of this Notice in order to be considered. Written objection should be sent to: Air Force Research Laboratory Information Directorate, Office of the Staff Judge Advocate, AFRL/IFOJ, 26 Electronic Parkway, Rome, New York 13441-4515. Telephone: (315) 330-2087; facsimile (315) 330-7583.

Pamela D. Fitzgerald,
Air Force Federal Register Liaison Officer.

[FR Doc. 04-16167 Filed 7-15-04; 8:45 am]

BILLING CODE 5001-05-P